DEPARTMENT OF TRANSPORTATION

Federal Railroad Administration

Safety Advisory 2008-01

AGENCY: Federal Railroad Administration (FRA), DOT.

ACTION: Notice of Safety Advisory; damage to intermediate air hose elbow connection on certain freight cars equipped with end-of-car cushion devices.

SUMMARY: FRA's Office of Safety Assurance and Compliance Motive Power and Equipment (MP&E) Division has been notified that certain freight cars equipped with end-of-car cushioning (EOCC) devices may have damage to a 90-degree elbow connected to the trainline angle cock.

FOR FURTHER INFORMATION CONTACT: Tom Blankenship, Mechanical Engineer, MP&E Division (RRS-14); FRA Office of Safety Assurance and Compliance, 1200 New Jersey Avenue, SE., Washington, DC 20590, telephone: (202) 493-6446.

SUPPLEMENTARY INFORMATION: On newly constructed freight cars, the air brake trainline must pass the Association of American Railroads (AAR) Standard S-471, Brake Pipe Restriction Test. This requirement is used to verify the clear and open path of air to adequately operate the train air brake system. The Brake Pipe Restriction Test requires that a 1-inch round nylon ball be transmitted through the trainline under air pressure of 80 psi.

The intermediate air hose arrangement, as shown in Rule 4, Figure 22 of the Field Manual of the AAR Interchange Rules, shows a 90-degree swivel elbow connected to the angle cock. The intermediate air hose (located between the angle cock and the standard air brake hose) has this 90-degree elbow attached to the air hose end of the angle cock. When cars are uncoupled while charged with air, the glad hand on the standard air brake hose can (if not properly restrained) whip back and strike the 90-degree elbow. The violent impact of the glad hand striking this elbow causes the elbow to bend or flatten and subsequently restrict the air flow. This bending or flattening of the 90-degree elbow, if uncorrected, can cause sticking brakes, wheel tread buildup, and diminished capacity of the train air brake system. Freight cars with bent or flattened 90-degree elbows are in violation of Title 49 Code of Federal Regulations (CFR) section 232.205(c)(3), which states in part, “air hoses shall be properly coupled and shall not kink, bind, or foul or be in any other condition that restricts air flow.”

FRA has found damage to the intermediate air hose arrangement 90-degree elbow on ATSF 621000-, ATSF 622000-, and BNSF 534000-series cars owned by BNSF Railway (BNSF). BNSF has implemented an aggressive program to address this issue on cars in their ownership by fleet inspection and repair of cars found with damage to the 90-degree elbow.

Additional cars that have been observed with this type of defect include LW 42000-series box cars and TBOX 660000-series box cars.

Recommended Action: Recognizing the need to ensure safety, FRA recommends that railroads and car owners that operate freight cars equipped with EOCC devices having intermediate air hoses with 90-degree elbows subject to the damage described above initiate an inspection and repair program to ensure cars are maintained in accordance with AAR Interchange Rule 4, Figure 22, and that the trainline is not obstructed or restricted.

FRA may modify this Safety Advisory 2008-01, issue additional safety advisories, or take other appropriate action necessary to ensure the highest level of safety on the Nation's railroads.

Issued in Washington, DC, on April 9, 2008.
Jo Strang,
Associate Administrator for Safety.

[FR Doc. E8-8104 Filed 4-15-08; 8:45 am]

BILLING CODE 4910-06-P